DEPARTMENT OF TRANSPORTATION

Surface Transportation Board

[Docket No. FD 35894]

Motive Rail, Inc. d/b/a Missouri North Central Railroad—Lease and Operation Exemption—Rail Line of Sault Ste. Marie Bridge Company

Motive Rail, Inc., d/b/a Missouri North Central Railroad (MNCR), a Class III rail carrier, has filed a verified notice of exemption under 49 CFR 1150.41 to operate, pursuant to a track lease and an operating agreement, approximately 9,504 linear feet of track presently owned by the Sault Ste. Marie Bridge Company (SSMBC), extending between milepost 24.5 and milepost 22.7 in Quinnesec, Mich. (the Line).

MNCR states that while its agreement with SSMBC provides MNCR with a nonexclusive agreement to provide common carrier rail operations over the Line, SSMBC will retain the right to provide service over the Line. According to MNCR, there are no agreements applicable to the Line imposing any interchange commitments.

MNCR states that it intends to consummate this transaction “30 days from the date of [its] notice, probably around early to mid-February 2015.” The earliest this transaction may be consummated is February 6, 2015, the effective date of this exemption (30 days after the verified notice was filed).

MNCR certifies that the projected annual revenues as a result of this transaction will not result in MNCR's becoming a Class I or II rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by January 30, 2015 (at least seven days prior to the date the exemption becomes effective).

An original and 10 copies of all pleadings, referring to Docket No. FD 35894, must be filed with the Surface Transportation Board, 395 E Street SW., Washington, DC 20423-0001. In addition, a copy of each pleading must be served on applicant's representative, John D. Heffner, Strasburger & Price, LLP, 1025 Connecticut Ave. NW., Suite 717, Washington, DC 20036.

Board decisions and notices are available on our Web site at WWW.STB.DOT.GOV.

Decided: January 20, 2015.
By the Board, Rachel D. Campbell, Director, Office of Proceedings.
Brendetta S. Jones,
Clearance Clerk.

[FR Doc. 2015-01124 Filed 1-22-15; 8:45 am]

BILLING CODE 4915-01-P